FEDERAL COMMUNICATIONS COMMISSION

[MD Docket No. 05-59; DA 05-2087]

Assessment and Collection of Regulatory Fees for Fiscal Year 2005

AGENCY: Federal Communications Commission.

ACTION: Notice.

SUMMARY: By this document, the Commission announces, the FY 2005 regulatory fee payment window is now available to accept the annual regulatory fees from licensees and regulatees.

DATES: Payments due August 23, 2005 through September 7, 11:59 p.m.

ADDRESSES: Mail payment of billed regulatory fees to Federal Communications Commission, Regulatory Fees, P.O. Box 358365, Pittsburgh, PA 15251-5365.

Courier delivery address of billed regulatory fees to Federal Communications Commission, Regulatory Fees, c/o Mellon Client Service Center, 500 Ross Street, Room 670, Pittsburgh, PA 15262-0001, Attn: FCC Module Supervisor. See SUPPLEMENTARY INFORMATION for payment procedures for all other entities.

FOR FURTHER INFORMATION CONTACT: Regina Dorsey, Special Assistant to the Chief Financial Officer, at 1-202-418-1993, or by e-mail at regina.dorsey@fcc.gov.

SUPPLEMENTARY INFORMATION: Licensees and regulatees who are required to pay annual regulatory fees pursuant to 47 U.S.C. 159 (Public Law 103-66) must make their Fiscal Year (FY 2005) fee payments by 11:59 p.m. on September 7, 2005. The official fee payment window will open on August 23, 2005, but payments may be sent prior to August 23. Payments received after 11:59 p.m. on September 7, 2005 will be assessed a 25% late payment penalty. The Commission is required by Congress to collect regulatory fees to recover the regulatory costs associated with its enforcement, policy, rulemaking, user information, and international activities.

Licensees and regulatees pay differing fees dependent on a variety of factors, such as the number of subscribers, number of assigned telephone numbers, or revenue, etc. For more information on how the FY 2005 regulatory fees were determined or instructions on how to make payment go to http://www.fcc.gov/fees.

Federal Communications Commission.
Marlene H. Dortch,
Secretary.

[FR Doc. 05-16840 Filed 8-22-05; 8:45 am]

BILLING CODE 6712-01-P